DEPARTMENT OF HEALTH AND HUMAN SERVICES

Centers for Disease Control and Prevention

[Request for Application (RFA) AA008]

Expansion of HIV/AIDS Care and Treatment Services and Training Activities in the Republic of Uganda; Notice of Intent To Fund Single Eligibility Award

A. Purpose

The Centers for Disease Control and Prevention (CDC) announces the intent to fund fiscal year (FY) 2005 funds for a cooperative agreement program to continue the expansion of comprehensive HIV/AIDS prevention, care and treatment services to HIV positive clients and their families, and to provide training for a wide range of health care providers in the public and private sector to support the national expansion of basic preventive care and ART provision to PLWHAs in the Republic of Uganda.

The Catalog of Federal Domestic Assistance number for this program is 93.067.

B. Eligible Applicant

Assistance will only be provided to The Mildmay Center (TMC). No other applicants are solicited.

• TMC was set up in 1998, through a MOH and British government agreement, as a tertiary referral center for HIV/AIDS palliative care. TMC International has a ten-year agreement to manage the center on behalf of the MOH.

• TMC has been funded through Cooperative Agreement: U47/CCU020672 (PA 01142)—Clinical and Laboratory Training in HIV/AIDS in the Republic of Uganda for $1.5 million annually since 2001.

• In 2004, TMC received supplemental funding of $1.6 million through The Emergency Plan Track 1.5 to implement the provision of ARVs to more than 1,800 adult and pediatric clients and provide basic preventive care package services to more than 5,000 clients. It is important that patients enrolled in the ART program continue their treatment uninterrupted.

• TMC is the only institution in Uganda that has the expertise to conduct training programs for multiple cadres of health care providers in comprehensive holistic rehabilitation and palliative care for PLWHAs in both Uganda and the region.

• TMC has demonstrated experience in training health care providers in rural districts within their workstations with practical involvement and support supervision through mobile training teams. TMC has experience producing high quality HIV/AIDS training curricula that are technically accurate and follow solid adult training principles.

• TMC has a special focus on pediatrics, with over 2,500 children below 18 years receiving regular care. The center provides specialized training in pediatric HIV/AIDS care.

• Currently, the center has over 6,000 active clients with more than 2,000 on ART.

C. Funding

Approximately $4,500,000 is available in FY 2005 to fund this award. It is expected that the award will begin on or before August 1, 2005, and will be made for a 12-month budget period within a project period of up to 5 years. Funding estimates may change.

D. Where To Obtain Additional Information

For general comments or questions about this announcement, contact: Technical Information Management, CDC Procurement and Grants Office, 2920 Brandywine Road, Atlanta, GA 30341-4146. Telephone: 770-488-2700.

For program technical assistance, contact: Jonathan Mermin, MD, MPH, Global Aids Program [GAP], Uganda Country Team, National Center for HIV, STD and TB Prevention, Centers for Disease Control and Prevention [CDC], P.O. Box 49, Entebbe, Uganda. Telephone: +256-41320776. E-mail: jhm@cdc.gov.

For financial, grants management, or budget assistance, contact: Shirley Wynn, Contract Specialist, CDC Procurement and Grants Office, 2920 Brandywine Road, Atlanta, GA 30341-4146. Telephone: 770-788-1515. E-mail: swynn@cdc.gov.

Dated: May 2, 2005.
William P. Nichols,
Director, Procurement and Grants Office, Centers for Disease Control and Prevention.

[FR Doc. 05-9065 Filed 5-5-05; 8:45 am]

BILLING CODE 4163-18-P